FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 26, 2016.

A. Federal Reserve Bank of Atlanta (Chapelle Davis, Assistant Vice President) 1000 Peachtree Street NE., Atlanta, Georgia 30309. Comments can also be sent electronically to Applications.Comments@atl.frb.org:

1. The RLP 2012 Children's Trust, Panama City, Florida, and Johnna Lombard, Trustee, Manhasset, New York; to acquire voting shares of PrimeSouth Bancshares, Inc., and thereby indirectly acquire voting shares of PrimeSouth Bank, both in Tallassee, Alabama.

B. Federal Reserve Bank of St. Louis (David L. Hubbard, Senior Manager) P.O. Box 442, St. Louis, Missouri 63166-2034. Comments can also be sent electronically to Comments.applications@stls.frb.org:

1. Jeffery F. Teague and Sarah Shell Teague, as co-trustees of the Jeffery F. Teague and Sarah Shell Teague Joint Revocable Trust, all of El Dorado, Arkansas; Susan Shell Allison, individually, and as trustee of the Susan Allison Testamentary Trust with power to vote shares owned by her two minor children, all of Benton, Arkansas; Joseph Shell, individually, and as trustee of the Joe Shell Testamentary Trust with power to vote shares owned by the Hanna Shell Irrevocable Trust, and by his minor child, all of Batesville, Arkansas; Jay Shell with power to vote shares held by Carolyn Southerland Shell Testamentary Trust and by High Point Farms, Jayme Shell, Jessica Shell, Mary K. Shell, all of Batesville, Arkansas; and John Allison, and Anna Allison, both of Benton, Arkansas, all as members of the Allison-Shell-Teague family control group; to retain voting shares of Citizens Bancshares of Batesville, and thereby indirectly retain voting shares of The Citizens Bank, both in Batesville, Arkansas.

Board of Governors of the Federal Reserve System, April 6, 2016.
Michael J. Lewandowski,
Associate Secretary of the Board.

[FR Doc. 2016-08204 Filed 4-8-16; 8:45 am]

BILLING CODE 6210-01-P